DEPARTMENT OF VETERANS AFFAIRS

[OMB Control No. 2900-0188]

Agency Information Collection Activity: Applications for Motor Vehicle Adaptive Equipment and HISA Services

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before April 29, 2024.

ADDRESSES: Submit written comments on the collection of information through Federal Docket Management System (FDMS) at www.Regulations.gov or to Grant Bennett, Office of Regulations, Appeals, and Policy (10BRAP), Department of Veterans Affairs, 810 Vermont Avenue NW, Washington, DC 20420 or email to Grant.Bennett@va.gov. Please refer to “OMB Control No. 2900-0188” in any correspondence. During the comment period, comments may be viewed online through FDMS.

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-0188” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Applications for Motor Vehicle Adaptive Equipment and HISA Services.

OMB Control Number: 2900-0188.

Type of Review: Reinstatement, with revisions, of a previously approved collection.

Abstract: The Department of Veterans Affairs (VA), through its Veterans Health Administration (VHA), administers medical services established by law. Title 38 U.S.C. 1701(6) includes prosthetic items within the scope of medical services. Title 38 U.S.C. 3901, 3902, 3903, 3904, and 1162 authorize the Secretary to provide each person eligible for a motor vehicle grant the adaptive equipment deemed necessary to ensure that the person will be able to operate the vehicle safely, in a manner consistent with the safety of others and to satisfy the applicable standards of licensure established by the state of residency. VA also provides assistance to Veterans applying for Home Improvements and Structural Alterations (HISA) grants. The Prosthetic Service determines eligibility, entitlement, and payment of individual claims for home improvements and structural alterations to accommodate a Veteran's needs.

VA Form 10-1394 will be used to collect necessary information from eligible Veterans applying for motor vehicle adaptive equipment. VA Form 10-0103 will be used to collect necessary information from eligible Veterans applying for HISA grants.

Total Annual Burden: 2,750 hours.

Total Annual Responses: 21,000.

Affected Public: Individuals or households.

Estimated Annual Burden:

10-1394—1,500 hours.

10-0103—1,250 hours.

Estimated Average Burden per Respondent:

10-1394—15 minutes.

10-0103—5 minutes.

Frequency of Response: Once annually.

Estimated Number of Respondents:

10-1394—6,000.

10-0103—15,000.

By direction of the Secretary.
Maribel Aponte,
VA PRA Clearance Officer, Office of Enterprise and Integration/Data Governance Analytics, Department of Veterans Affairs.

[FR Doc. 2024-04052 Filed 2-27-24; 8:45 am]

BILLING CODE 8320-01-P